DEPARTMENT OF LABOR

Employment and Training Administration

[TA-W-52,584]

Siebel Systems, Emeryville, CA; Notice of Termination of Investigation

Pursuant to Section 221 of the Trade Act of 1974, as amended, an investigation was initiated on August 18, 2003 in response to a worker petition filed by the One Stop Career Center, on behalf of workers at Siebel Systems, Emeryville, California.

The petitioner has requested that the petition be withdrawn. Consequently, the investigation has been terminated.

Signed at Washington, DC, this 20th day of August, 2003.
Elliott S. Kushner,
Certifying Officer, Division of Trade Adjustment Assistance.

[FR Doc. 03-22278 Filed 8-29-03; 8:45 am]

BILLING CODE 4510-30-P